ENVIRONMENTAL PROTECTION AGENCY

[FRL-9135-8]

Total Coliform Rule Revisions—Notice of Stakeholder Meeting

AGENCY: Environmental Protection Agency (EPA).

ACTION: Notice.

SUMMARY: The Environmental Protection Agency (EPA) is developing proposed revisions to the 1989 Total Coliform Rule (TCR). The Total Coliform Rule/Distribution System Advisory Committee established an Agreement in Principle, which provides the Agency with recommendations for revising the TCR. One of the recommendations of the Committee is that EPA conduct stakeholder outreach as the Agency develops the proposed revisions. Today, EPA is giving notice of a public meeting in which the Agency will provide updates on the proposed Revised Total Coliform Rule (RTCR) and the Distribution Systems Research and Information Collection Partnership; opportunities for stakeholders to provide feedback on assessment and corrective action guidance related to the proposed rule; and opportunities for stakeholders to provide feedback on options for the process of reviewing the methods approved to analyze drinking water samples to determine the presence of total coliforms and E. coli. Other topics to be discussed in the meeting include a review of EPA's commitments to stakeholder outreach and involvement pertaining to the proposed RTCR and the plan and tentative schedule for revising other guidance documents.

DATES: The public meeting will be held on Tuesday, May 11, 2010 (9:30 a.m. to 5 p.m., Eastern Daylight Savings Time (EDST)) and Wednesday, May 12, 2010 (8:30 a.m. to 12:30 p.m., EDST). Attendees and those planning to participate via teleconference should register for the meeting by calling Kate Zimmer of RESOLVE at (202) 965-6387or by e-mail to kzimmer@resolv.org no later than May 4, 2010.

ADDRESSES: The meeting will be held at the EPA East Building, 1201 Constitution Avenue, NW., Washington, DC 20460. On May 11, 2010, the meeting will be in room 1117(A) of the East Building. On May 12, 2010, the meeting will be in room 1153 of the East Building.

FOR FURTHER INFORMATION CONTACT: Teleconferencing will be available for individuals unable to attend the meeting in person. For general inquiries about this meeting and teleconference information, contact Kate Zimmer of RESOLVE at (202) 965-6387 or by e-mail kzimmer@resolv.org. For technical information, contact Sean Conley (conley.sean@epa.gov, (202) 564-1781, Standards and Risk Management Division, Office of Ground Water and Drinking Water (MC 4607M), Environmental Protection Agency, 1200 Pennsylvania Avenue, NW., Washington, DC 20460; fax number: (202) 564-3767). For more information on the Committee's recommendations please visit, http://www.epa.gov/safewater/sdwa/regs_under_development.html.

SUPPLEMENTARY INFORMATION: Special Accommodations: For information on access or accommodations for individuals with disabilities, please contact Cesar Cordero at (202) 564-5275 or by e-mail at cordero.cesar@epa.gov. Please allow at least 10 days prior to the meeting to give EPA time to process your request.

Dated: April 5, 2010.
Cynthia C. Dougherty,
Director, Office of Ground Water and Drinking Water.

[FR Doc. 2010-8126 Filed 4-8-10; 8:45 am]

BILLING CODE 6560-50-P